FEDERAL RESERVE SYSTEM

Change in Bank Control Notices; Acquisitions of Shares of a Bank or Bank Holding Company

The notificants listed below have applied under the Change in Bank Control Act (“Act”) (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than February 19, 2019.

A. Federal Reserve Bank of Atlanta (Kathryn Haney, Assistant Vice President) 1000 Peachtree Street NE, Atlanta, Georgia 30309. Comments can also be sent electronically to Applications.Comments@atl.frb.org:

1. The John Charles Simpson, III Trust, and John Charles Simpson, Jr., as trustee, Fenton, Missouri; to acquire shares of Red River Bancshares, Inc., and thereby indirectly acquire shares of Red River Bank, both in Alexandria, Louisiana, and thereby join the group acting in concert previously approved to own shares of Red River Bancshares, Inc., which includes John Charles Simpson, the John Charles Simpson, Jr. Trust and the Angela Katherine Simpson Trust, and Simeon A. Thibeaux, Jr., as trustee of both trusts.

Board of Governors of the Federal Reserve System, January 28, 2019.
Yao-Chin Chao,
Assistant Secretary of the Board.

[FR Doc. 2019-00557 Filed 1-31-19; 8:45 am]

BILLING CODE 6210-01-P